DEPARTMENT OF TRANSPORTATION

Federal Aviation Administration

14 CFR Part 39

[Docket No. FAA-2018-0550; Product Identifier 2018-NM-024-AD]

RIN 2120-AA64

Airworthiness Directives; Bombardier, Inc., Airplanes

AGENCY: Federal Aviation Administration (FAA), DOT.

ACTION: Notice of proposed rulemaking (NPRM).

SUMMARY: We propose to adopt a new airworthiness directive (AD) for certain Bombardier, Inc., Model CL-600-2B16 (CL-604 Variants) airplanes. This proposed AD was prompted by reports of floodlight lamps found burned and the corresponding circuit breaker tripped as a result of fluid entering the cockpit floodlight fixtures. This proposed AD would require installation of a new gasket seal on floodlight fixtures. We are proposing this AD to address the unsafe condition on these products.

DATES: We must receive comments on this proposed AD by August 6, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-0550; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Assata Dessaline, Aerospace Engineer, Avionics and Administrative Services Section, FAA, New York ACO Branch, 1600 Stewart Avenue, Suite 410, Westbury, NY 11590; telephone 516-228-7301; fax 516-794-5531; email 9-avs-nyaco-cos@faa.gov.

SUPPLEMENTARY INFORMATION:

Comments Invited

We invite you to send any written relevant data, views, or arguments about this proposal. Send your comments to an address listed under the ADDRESSES section. Include “Docket No. FAA-2018-0550; Product Identifier 2018-NM-024-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

Transport Canada Civil Aviation (TCCA), which is the aviation authority for Canada, has issued Canadian AD CF-2016-40, dated December 15, 2016; and Canadian AD CF-2018-06, dated February 19, 2018; to correct an unsafe condition for certain Bombardier, Inc., Model CL-600-2B16 (CL-604 Variants) airplanes. Canadian AD CF-2016-40 and Canadian AD CF-2018-06 are referred to after this as the Mandatory Continuing Airworthiness Information, or “the MCAI.”

Canadian AD CF-2016-40 states:

Several operators have reported a burning odor and smoke emanating from the cockpit floodlights. Bombardier Aerospace (BA) has determined the cause to be fluid entering into the cockpit floodlight fixtures causing short circuits and damage to electrical components. If not corrected, this condition may result in a fire in the cockpit.

This [Canadian] AD is issued to mandate the installation of a new gasket seal on the floodlight fixture.

Canadian AD CF-2018-06 states:

[Canadian] AD CF-2016-40, applicable to Bombardier Inc. model CL-600-2B16 (604 [CL-604 Variants serial numbers 5301 through 5665 inclusive] and 605 [CL-604 Variants serial numbers 5701 through 5988 inclusive] variants) aeroplanes, was issued to address the potential of water penetrating into cockpit floodlight fixtures. A similar condition exists on the CL-600-2B16 (650 variant [CL-604 Variants serial numbers 6050 through 6070 inclusive]) aeroplanes. This condition can cause short circuits and damage to electrical components, which may result in a fire in the cockpit.

This [Canadian] AD mandates the installation of gasket seals on the pilot and co-pilot floodlight fixtures to prevent fluid from entering them.

You may examine the MCAI in the AD docket on the internet at http://www.regulations.gov by searching for and locating Docket No. FAA-2018-0550.

Related Service Information Under 1 CFR Part 51

Bombardier has issued the following service information:

• Bombardier Service Bulletin 604-33-007, Revision 02, dated October 2, 2017.

• Bombardier Service Bulletin 605-33-005, Revision 02, dated October 2, 2017.

• Bombardier Service Bulletin 650-33-001, Revision 03, dated October 2, 2017.

The service information describes procedures to install a new gasket seal on floodlight fixtures. These documents are distinct since they apply to different configurations of the same airplane model. The service information is reasonably available because the interested parties have access to it through their normal course of business or by the means identified in the ADDRESSES section.

FAA's Determination and Requirements of this Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type design.

Costs of Compliance

We estimate that this proposed AD affects 123 airplanes of U.S. registry. We estimate the following costs to comply with this proposed AD:

Estimated Costs for Required Actions
Labor cost | Parts cost | Cost per product | Cost on U.S. operators
Up to 2 work-hours × $85 per hour = Up to $170 | $0 | Up to $170 | Up to $20,910.

According to the manufacturer, some or all of the costs of this proposed AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2018-0550; Product Identifier 2018-NM-024-AD.

(a) Comments Due Date

We must receive comments by August 6, 2018.

(b) Affected ADs

None.

(c) Applicability

This AD applies to certain Bombardier, Inc., Model CL-600-2B16 (CL-604 Variants) airplanes, certificated in any category, serial numbers 5301 through 5665 inclusive, 5701 through 5988 inclusive, and 6050 through 6070 inclusive.

(d) Subject

Air Transport Association (ATA) of America Code 33, Lights.

(e) Reason

This AD was prompted by reports of floodlight lamps found burned and the corresponding circuit breaker tripped as a result of fluid entering the cockpit floodlight fixtures. We are issuing this AD to prevent fluid from entering the cockpit floodlight fixtures, which could cause short circuits and damage to electrical components, which may result in a fire in the cockpit.

(f) Compliance

Comply with this AD within the compliance times specified, unless already done.

(g) Required Actions

(1) For airplanes identified in Bombardier Service Bulletin 604-33-007, Revision 02, dated October 2, 2017: Within 38 months after the effective date of this AD, install new gasket seals in accordance with the Accomplishment Instructions of Bombardier Service Bulletin 604-33-007, Revision 02, dated October 2, 2017.

(2) For airplanes identified in Bombardier Service Bulletin 605-33-005, Revision 02, dated October 2, 2017: Within 38 months after the effective date of this AD, install new gasket seals in accordance with the Accomplishment Instructions of Bombardier Service Bulletin 605-33-005, Revision 02, dated October 2, 2017.

(3) For airplanes identified in Bombardier Service Bulletin 650-33-001, Revision 03, dated October 2, 2017: Within 38 months after the effective date of this AD, install new gasket seals in accordance with the Accomplishment Instructions of Bombardier Service Bulletin 650-33-001, Revision 03, dated October 2, 2017.

(h) Credit for Previous Actions

(1) This paragraph provides credit for actions required by (g)(1), if those actions were performed before the effective date using Bombardier Service Bulletin 604-33-007, dated September 29, 2015; or Bombardier Service Bulletin 604-33-007, Revision 01, dated November 30, 2015.

(2) This paragraph provides credit for actions required by (g)(2), if those actions were performed before the effective date using Bombardier Service Bulletin 605-33-005, dated September 29, 2015; or Bombardier Service Bulletin 605-33-005, Revision 01, dated November 30, 2015.

(3) This paragraph provides credit for actions required by (g)(3), if those actions were performed before the effective date using the service information specified in paragraphs (h)(3)(i), (h)(3)(ii), or (h)(3)(iii) of this AD.

(i) Bombardier Service Bulletin 650-33-001, dated October 1, 2015.

(ii) Bombardier Service Bulletin 650-33-001, Revision 01, dated November 30, 2015.

(iii) Bombardier Service Bulletin 650-33-001, Revision 02, dated March 11, 2016.

(i) Other FAA AD Provisions

The following provisions also apply to this AD:

(1) Alternative Methods of Compliance (AMOCs): The Manager, New York Aircraft Certification Office (ACO) Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or Transport Canada Civil Aviation (TCCA); or Bombardier, Inc.'s TCCA Design Approval Organization (DAO). If approved by the DAO, the approval must include the DAO-authorized signature.

(j) Related Information

(1) Refer to Mandatory Continuing Airworthiness Information (MCAI) Canadian AD CF-2016-40, dated December 15, 2016; and Canadian AD CF-2018-06, dated February 19, 2018, for related information. This MCAI may be found in the AD docket on the internet at http://www.regulations.gov by searching for and locating Docket No. FAA-2018-0550.

(2) For more information about this AD, contact Assata Dessaline, Aerospace Engineer, Avionics and Administrative Services Section, FAA, New York ACO Branch, 1600 Stewart Avenue, Suite 410, Westbury, NY 11590; telephone 516-228-7301; fax 516-794-5531; email 9-avs-nyaco-cos@faa.gov.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this service information at the FAA, Transport Standards Branch, 2200 South 216th St., Des Moines, WA. For information on the availability of this material at the FAA, call 206-231-3195.

Issued in Des Moines, Washington, on June 12, 2018.
Michael Kaszycki,
Acting Director, System Oversight Division, Aircraft Certification Service.

[FR Doc. 2018-13334 Filed 6-21-18; 8:45 am]

BILLING CODE 4910-13-P